DEPARTMENT OF THE INTERIOR

Bureau of Land Management

[WO-230-1030-PB-24 1A]

OMB Control Number 1004-0058; Information Collection Submitted to the Office of Management and Budget Under the Paperwork Reduction Act

The Bureau of Land Management (BLM) has sent a request to extend the current information collection to the Office of Management and Budget (OMB) under the provisions of the Paperwork Reduction Act of 1995 (44 U.S.C. 3501 et seq.). On February 11, 2003, the BLM published a notice in the Federal Register (68 FR 6941) requesting comment on this information collection. The comment period ended on April 14, 2003. BLM received no comments. You may obtain copies of the collection of information and related forms and explanatory material by contacting the BLM Information Collection Clearance Officer at the telephone number listed below.

The OMB must respond to this request within 60 days but may respond after 30 days. For maximum consideration your comments and suggestions on the requirement should be directed within 30 days to the Office of Management and Budget, Interior Department Desk Officer (1004-0058), at OMB-OIRA via facsimile to (202) 395-6566 or e-mail to OIRA&_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Timber Export Reporting and Substitution Determination (43 CFR 5400).

OMB Control Number: 1004-0058.

Bureau Form Number(s): 5460-17.

Abstract: The Bureau of Land Management (BLM) collects and uses the information to determine if there was a substitution of Federal timber for exported private timber in violation of 43 CFR 5400.0-3(c).

Frequency: Occasional and within 12 months of last export sale.

Description of Respondents: Federal timber purchasers.

Estimated Completion Time: 1 hour.

Annual Responses: 25.

Application Fee Per Response: 0.

Annual Burden Hours: 25.

Bureau Clearance Officer: Michael Schwartz, (202) 452-5033.

Dated: November 24, 2003.
Michael H. Schwartz,
Bureau of Land Management, Information Collection Clearance Officer.

[FR Doc. 03-31215 Filed 12-17-03; 8:45 am]

BILLING CODE 4310-84-M